FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 008790N.

Name: A.S.A.P. Transport Ltd.

Address: 2414 Morris Avenue, Union, NJ 07083.

Date Revoked: January 5, 2006.

Reason: Failed to maintain a valid bond.

License Number: 002525F.

Name: Export Services, Incorporated.

Address: 7101 North Green Bay Avenue, Glendale, WI 53209-2800.

Date Revoked: January 10, 2006.

Reason: Surrendered license voluntarily.

License Number: 019286NF.

Name: Frontline Sourcing, Inc.

Address: 1053-B Willingham Drive, Atlanta, GA 30344.

Date Revoked: December 28, 2005.

Reason: Surrendered license voluntarily.

License Number: 017090N.

Name: Inter-Connect Transportation, Inc.

Address: 8901 S. La Cienega Blvd., #203, Inglewood, CA 90301.

Date Revoked: December 30, 2005.

Reason: Failed to maintain a valid bond.

License Number: 001675F.

Name: Monti Forwarding Corp.

Address: 925 Bergen Street, Brooklyn, NY 11238.

Date Revoked: October 1, 2005.

Reason: Failed to maintain a valid bond.

License Number: 013725N.

Name: Pan Ocean Line, Inc.

Address: 245 E. Main Street, #110, Alhambra, CA 91801.

Date Revoked: January 7, 2006.

Reason: Failed to maintain a valid bond.

License Number: 006151N.

Name: Sirva Container Lines, Inc.

Address: 5001 U.S. Highway 30 West, Ft. Wayne, IN 46818.

Date Revoked: November 1, 2005.

Reason: Surrendered license voluntarily.

License Number: 009755N.

Name: Topman Express (USA), Inc.

Address: 4425 Atlantic Avenue, Suite A-14, Long Beach, CA 90807.

Date Revoked: January 5, 2006.

Reason: Failed to maintain a valid bond.

Sandra L. Kusumoto,
Director, Bureau of Certification and Licensing.

[FR Doc. E6-565 Filed 1-18-06; 8:45 am]

BILLING CODE 6730-01-P